DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open meeting.

SUMMARY: Notice is hereby given of a meeting of the Sanctuary System Business Advisory Council (council). The meeting is open to the public, and participants may provide comments at the appropriate time during the meeting.

DATES: The meeting will be held Tuesday, September 27, 2016, from 9:00 a.m. to 4:30 p.m. ET, and an opportunity for public comment will be provided at 3:45 p.m. ET. Both these times and the agenda topics described below are subject to change.

ADDRESSES: The meeting will be held in The National Press Club's Bloomberg Room located on the 13th Floor of The National Press Building at 529 14th Street NW., Washington, DC 20045.

FOR FURTHER INFORMATION CONTACT: Rebecca Holyoke, Office of National Marine Sanctuaries, 1305 East-West Highway, Silver Spring, Maryland 20910 (Phone: 240-533-0685; Fax: 301-713-0404; Email: Rebecca.Holyoke@noaa.gov).

SUPPLEMENTARY INFORMATION: ONMS serves as the trustee for a network of underwater parks encompassing more than 170,000 square miles of marine and Great Lakes waters from Washington state to the Florida Keys, and from Lake Huron to American Samoa. The network includes a system of 13 national marine sanctuaries and Papahānaumokuākea and Rose Atoll marine national monuments. National marine sanctuaries protect our Nation's most vital coastal and marine natural and cultural resources, and through active research, management, and public engagement, sustain healthy environments that are the foundation for thriving communities and stable economies. One of the many ways ONMS ensures public participation in the designation and management of national marine sanctuaries is through the formation of advisory councils. The Sanctuary System Business Advisory Council (council) has been formed to provide advice and recommendations to the Director regarding the relationship of ONMS with the business community. Additional information on the council can be found at http://sanctuaries.noaa.gov/management/ac/welcome.html.

Matters to be Considered: The meeting will provide an opportunity for council members to hear news from across the National Marine Sanctuary System, including updates on the potential designation of two new national marine sanctuaries; two proposed sanctuary expansions; and the differences between a national marine sanctuary and a marine national monument. Council members will also be able to review and comment on ongoing efforts to develop a sanctuary system business plan and enhance the online presence of ONMS's social media campaign, Earth is Blue. Lastly, council members will learn about NOAA's plans to maintain progress on its resilient communities, place-based conservation, and “blue economies” priorities during the transition to a new presidential administration in 2017. The agenda, available at http://sanctuaries.noaa.gov/management/bac/meetings.html, is subject to change.

Authority: 16 U.S.C. Sections 1431, et seq.

(Federal Domestic Assistance Catalog Number 11.429 Marine Sanctuary Program)

Dated: August 23, 2016.
John Armor,
Acting Director, Office of National Marine Sanctuaries, National Ocean Service, National Oceanic and Atmospheric Administration.

[FR Doc. 2016-21933 Filed 9-12-16; 8:45 am]

BILLING CODE 3510-NK-P